DEPARTMENT OF COMMERCE

National Oceanic and Atmospheric Administration

RIN 0648-XC051

Atlantic Highly Migratory Species; Commercial Atlantic Region Non-Sandbar Large Coastal Shark Fishery Opening Date

AGENCY: National Marine Fisheries Service (NMFS), National Oceanic and Atmospheric Administration (NOAA), Commerce.

ACTION: Notice; fishery opening date.

SUMMARY: NMFS is announcing the opening date of the commercial Atlantic region non-sandbar large coastal shark fishery. This action is necessary to inform fishermen and dealers about the fishery opening date.

DATES: The commercial Atlantic region non-sandbar large coastal shark fishery will open on July 15, 2012.

FOR FURTHER INFORMATION CONTACT: Karyl Brewster-Geisz or Guy DuBeck, 301-427-8503; fax 301-713-1917.

SUPPLEMENTARY INFORMATION: The Atlantic shark fisheries are managed under the 2006 Consolidated Atlantic Highly Migratory Species (HMS) Fishery Management Plan (FMP), its amendments, and its implementing regulations found at 50 CFR part 635 issued under authority of the Magnuson-Stevens Fishery Conservation and Management Act (16 U.S.C. 1801 et seq.).

On January 24, 2012 (77 FR 3393), the National Marine Fisheries Service (NMFS) published a final rule that established quota levels and opening dates for the 2012 Atlantic commercial shark fisheries. In the final rule, we stated that the 2012 Atlantic non-sandbar large coastal shark (LCS) fishery would open on either the effective date of the final rule implementing the Atlantic HMS electronic dealer reporting system (76 FR 37750; June 28, 2011) or July 15, 2012, whichever occurs first. We are still working on integrating the Atlantic HMS electronic dealer reporting system with other existing and new electronic programs in the Northeast and Southeast regions. Once the electronic dealer system is available, we will conduct training workshops and webinars to introduce and train dealers how to use the new system before implementation. Thus, we do not expect the system to be in place before July 15, and will open the commercial Atlantic region non-sandbar LCS fishery on July 15, 2012.

All of the shark fisheries will remain open until December 31, 2012, unless we determine that the fishing season landings have reached, or are projected to reach, 80 percent of the available quota. At that time, consistent with § 635.27(b)(1), we will file for publication with the Office of the Federal Register a closure action for that shark species group and/or region that will be effective no fewer than 5 days from the date of filing. From the effective date and time of the closure until we announce, via a Federal Register action that additional quota, if any, is available, the fishery for the shark species group and, for non-sandbar LCS, region will remain closed, even across fishing years, consistent with § 635.28(b)(2).

Authority: 16 U.S.C. 1801 et seq.

Dated: June 8, 2012.
Carrie D. Selberg,
Acting Deputy Director, Office of Sustainable Fisheries, National Marine Fisheries Service.

[FR Doc. 2012-14458 Filed 6-12-12; 8:45 am]

BILLING CODE 3510-22-P